DEPARTMENT OF LABOR

Employment and Training Administration

[TA-W-38,061]

TRW, Valve Division, Danville, PA; Notice of Affirmative Determination Regarding Application for Reconsideration

By letter of November 11, 2000, the petitioner requested administrative reconsideration of the Department of Labor's Notice of Negative Determination Regarding Eligibility to Apply for Worker Adjustment Assistance, petition TA-W-38,061. The denial notice was signed on October 10, 2000 and published in the Federal Register on November 1, 2000 (65 FR 65329).

The Department has reviewed the request for reconsideration and has determined that further survey of a major declining customer of the subject firm would be appropriate.

Conclusion

After careful review of the application, I conclude that the claim is of sufficient weight to justify reconsideration of the Department of Labor's prior decision. The application is, therefore, granted.

Signed at Washington, DC, this 30th day of November 2000.
Linda G. Poole,
Certifying Officer, Division of Trade Adjustment Assistance.

[FR Doc. 00-31815 Filed 12-13-00; 8:45 am]

BILLING CODE 4510-30-M